DEPARTMENT OF HEALTH AND HUMAN SERVICES

Centers for Medicare & Medicaid Services

[CMS-3384-CN]

Medicare and Medicaid Programs; Application From the Joint Commission (TJC) for Continued Approval of its Home Health Agency Accreditation Program; Correction

AGENCY: Centers for Medicare & Medicaid Services (CMS), HHS.

ACTION: Final notice; correction.

SUMMARY: This document corrects technical errors that appeared in the notice published in the Federal Register on April 1, 2020 entitled “Medicare and Medicaid Programs; Application from the Joint Commission (TJC) for Continued Approval of its Home Health Agency Accreditation Program.”

DATES: This correcting document is effective on June 1, 2020.

FOR FURTHER INFORMATION CONTACT:

Sharon Lash (410) 786-9457.

Caecilia Blondiaux, (410) 786-2190.

SUPPLEMENTARY INFORMATION:

I. Background and Summary of Errors

In FR Doc. 2020-06792 of April 1, 2020 (85 FR 18245), there were technical errors that we identified in the Provisions of the Final Notice section. On pages 18246 and 18247, we made technical errors in our description of one of The Joint Commission's (TJC's) revisions to its standards and certification processes made to meet our requirements.

II. Correction of Errors

In FR Doc. 2020-06792 of April 1, 2020 (85 FR 18245), make the following corrections:

1. On page 18246, third column, the last bulleted paragraph, line 2, the phrase “educational and consultative nature of” is corrected to read “consultative nature of”.

2. On page 18247, first column, first partial paragraph, lines 6 and 7, the phrase “safety standards, rather than any educational function” is corrected to read “safety standards”.

The Administrator of the Centers for Medicare & Medicaid Services (CMS), Seema Verma, having reviewed and approved this document, authorizes Evell J. Barco Holland, who is the Federal Register Liaison, to electronically sign this document for purposes of publication in the Federal Register.

Dated: May 20, 2020.
Evell J. Barco Holland,
Federal Register Liaison, Department of Health and Human Services.

[FR Doc. 2020-11701 Filed 5-29-20; 8:45 am]

BILLING CODE 4120-01-P